DEPARTMENT OF HEALTH AND HUMAN SERVICES

Centers for Disease Control and Prevention

[30Day-15-15UR]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Enhanced Surveillance of Coccidioidomycosis in Low- and Non-Endemic States—New—National Center for Emerging and Zoonotic Infectious Diseases (NCEZID), Centers for Disease Control and Prevention (CDC).

Background and Brief Description

Coccidioidomycosis, also called “Valley fever,” is a nationally notifiable fungal infection caused by inhalation of soil-dwelling Coccidioides spp. In the United States, coccidioidomycosis is known to be endemic in the southwestern states, but new evidence suggests that the true endemic areas may be broader than previously recognized. Approximately 10,000 coccidioidomycosis cases are reported in the U.S. each year to the National Notifiable Disease Surveillance System (NNDSS), but this system captures limited clinical and epidemiological information about reported cases. Most cases occur in Arizona or California, so the epidemiology of this disease has been well-described for these states, but little is known about the features of cases in other states.

Enhanced surveillance in low- and non-endemic states will help determine which information is most important to collect during routine surveillance and will help assess the suitability of the Council of State and Territorial Epidemiologists (CSTE) case definition for coccidioidomycosis in these areas. Primary prevention strategies for coccidioidomycosis have not yet been proven to be effective, so public health efforts may be best aimed at promoting awareness of coccidioidomycosis among healthcare providers and the general public. Improved surveillance data are essential for identifying such opportunities to promote awareness about this disease and for determining its true public health burden.

State health department personnel in participating low- and non-endemic states will conduct telephone interviews with coccidioidomycosis cases reported during one calendar year that meet the CSTE case definition and will record responses on a standardized form. State health department personnel will use the form to collect information on demographics, underlying medical conditions, travel history, symptom type and duration, healthcare-seeking behaviors, diagnosis, treatment, and outcomes.

OMB approval is requested for two years. Participation is voluntary. The total estimated annualized burden is 48 hours.

Estimated Annualized Burden Hours
Type of respondents | Form name | Number of respondents | Number of responses per respondent | Average burden per response (in hrs.)
State Health Department Personnel | Case Report Form for Coccidioidomycosis (Valley Fever) Enhanced Surveillance | 145 | 1 | 20/60

Leroy A. Richardson,
Chief, Information Collection Review Office, Office of Scientific Integrity, Office of the Associate Director for Science, Office of the Director, Centers for Disease Control and Prevention.

[FR Doc. 2015-13161 Filed 6-1-15; 8:45 am]

BILLING CODE 4163-18-P